DEPARTMENT OF AGRICULTURE

Agricultural Research Service

Notice of Government Owned Invention Available for Licensing

AGENCY: Agricultural Research Service, USDA.

ACTION: Notice of government owned invention available for licensing.

SUMMARY: The invention listed below is owned by the U.S. Government as represented by the Department of Agriculture and is available for licensing. U.S. Patent Application Serial No. 09/637,031 entitled “Magnetostrictive Precipitation Gage” is available for licensing in accordance with 35 U.S.C. 207 and 37 CFR 404 to achieve expeditious commercialization of results of Federally funded research and development. Foreign patents are filed on selected inventions to extend market coverage for U.S. companies and may also be available for licensing.

DATES: (Federal Register) Comments must be received on or before January 30, 2001.

FOR FURTHER INFORMATION CONTACT: Technical and licensing information on this invention may be obtained by writing to: Janet I. Stockhausen of the USDA Forest Service, One Gifford Pinchot Drive, Madison, Wisconsin 53705-2398; telephone 608-231-9502; fax: 608-231-9508; or e-mail jistockh@facstaff.wisc.edu. Issued patents may be obtained from the Commissioner of Patents, U.S. Patent and Trademark Office, Washington, DC 20231.

June Blalock,
Technology Licensing Coordinator.

[FR Doc. 00-30660 Filed 11-30-00; 8:45 am]

BILLING CODE 3410-03-P